CONSUMER PRODUCT SAFETY COMMISSION

[Docket No. CPSC-2009-0088]

Agency Information Collection Activities; Submission for OMB Review; Comment Request—Third Party Conformity Assessment Body Registration Form

AGENCY: Consumer Product Safety Commission.

ACTION: Notice.

SUMMARY: In accordance with the requirements of the Paperwork Reduction Act (“PRA”) of 1995 (44 U.S.C. chapter 35), the Consumer Product Safety Commission (“Commission” or “CPSC”) announces that the Commission has submitted to the Office of Management and Budget (“OMB”) a request for extension of approval of a collection of information under the requirements pertaining to a third party conformity assessment body registration form, approved previously under OMB Control No. 3041-0143. In the Federal Register of June 30, 2016 (81 FR 42669), the CPSC published a notice to announce the agency's intention to seek extension of approval of the collection of information. The Commission received one comment that was out of scope. Therefore, by publication of this notice, the Commission announces that CPSC has submitted to the OMB a request for extension of approval of that collection of information, without change.

DATES: Written comments on this request for extension of approval of information collection requirements should be submitted by October 12, 2016.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW., Washington, DC 20503. In addition, written comments that are sent to OMB also should be submitted electronically at: http://www.regulations.gov, under Docket No. CPSC-2009-0088.

FOR FURTHER INFORMATION CONTACT: Robert H. Squibb, Consumer Product Safety Commission, 4330 East West Highway, Bethesda, MD 20814; (301) 504-7815, or by email to: rsquibb@cpsc.gov.

SUPPLEMENTARY INFORMATION: CPSC seeks to renew the following currently approved collection of information:

Title: Third Party Conformity Assessment Body Registration Form.

OMB Number: 3041-0143.

Type of Review: Renewal of collection.

Frequency of Response: On occasion.

Affected Public: Third party conformity assessment bodies seeking acceptance of accreditation or continuing accreditation.

General Description of Collection

The Consumer Product Safety Improvement Act of 2008 (“CPSIA”) requires third party testing be conducted by a third party conformity assessment body for any children's product subject to a children's product safety rule, before importing for consumption or warehousing or distributing in commerce. The CPSIA allows accreditation of third party conformity assessment bodies to be conducted, either by the Commission, or by an independent accreditation organization designated by the Commission, and furthermore, requires that the Commission maintain on its Web site an up-to-date list of entities that have been accredited to assess conformity with children's product safety rules. With the exception of firewalled third party conformity assessment bodies, the Commission has chosen to accept the accreditation of third party conformity assessment bodies that meet accreditation requirements of an independent accreditation organization.

To assess a third party conformity assessment body's qualifications for acceptance by CPSC, information related to location, accreditation, and ownership must be collected from third party conformity assessment bodies. The CPSC uses an online collection form, CPSC Form 223, to gather information from third party conformity assessment bodies voluntarily seeking acceptance by CPSC. The information collected relates to location, accreditation, and ownership. The Commission staff uses this information to assess:

• A third party conformity assessment body's status as either an independent third party conformity assessment body, a government-owned or government-controlled conformity assessment body, or a firewalled conformity assessment body;

• Qualifications for acceptance by CPSC to test for compliance to specified children's product safety rules; and

• Eligibility for acceptance on the CPSC Web site.

Part 1112 requires the collection of information in CPSC Form 223:

• Upon initial application by the third party conformity assessment body for acceptance by CPSC;

• Whenever there is a change to accreditation or ownership information; and

• At least every 2 years as part of a regular audit process.

Burden Estimates

The CPSC estimates the burden of the collection of information in CPSC Form 223 is as follows:

Estimated Annual Reporting Burden
Activity | Number of respondents | Frequency of responses | Total annual responses | Hours per response | Total hours
Initial Registration | 40 | 1 | 40 | 1 | 40
Re-Registration | 243 | 1 | 243 | 1 | 243
Changes in Information | 2 | 1 | 2 | 0.25 | 0.5
Total |  |  |  |  | 283.5

These estimates are based on the following information:

• From March 23, 2015 to March 23, 2016, 39 new third party conformity assessment bodies have registered with the CPSC; 36 registered during the previous 12 months. Therefore, we estimate the number of third party conformity assessment bodies who would register initially each year for the next 3 years would be 40.

• Under 16 CFR part 1112, third party conformity assessment bodies are required to resubmit CPSC Form 223 every 2 years. Because all third party conformity assessment bodies have not submitted their first CPSC Form 223s at the same time, only about half would be expected to resubmit a CPSC Form 223 in any one year. As of March 2016, 487 third party conformity assessment bodies have registered with CPSC. Approximately half (243) of these firms would be required to re-register with CPSC each year.

• Under 16 CFR part 1112, third party conformity assessment bodies are required to ensure that the information submitted on CPSC Form 223 is current and must submit a new CPSC Form 223 whenever the information changes. Based on current experience with third party conformity assessment bodies, we estimate that two third party conformity assessment bodies will make revisions per year to update their information. A change in information is a change that does not require review of laboratory accreditation documents, such as scope or test methods. Examples of revised information include changes in the Web site URL, name of the laboratory, and name of point of contact.

The total burden, therefore, is 283.5 hours, which we will round up to 284 hours. We estimate that hourly compensation for the time required for recordkeeping is $32.82 per hour (U.S. Bureau of Labor Statistics, “Employer Costs for Employee Compensation,” Table 9, total compensation for sales, office, and related workers in goods-producing industries, December 2015: http://www.bls.gov/ncs). The total cost burden to the respondents is approximately $9,321 ($32.82 × 284 hours = $9,321.88).

We received one comment on the announcement of the agency's intention to seek extension of approval of this collection of information. The comment is out of scope because it addresses collecting and tracking safety information about children's products. The commenter asserts that without some type of registration or monitoring devise in place, proper problem identification will continue to be an issue. That is not the purpose of Form 223. Form 223, which is the subject of this PRA renewal request, addresses the application process for third party conformity assessment bodies that desire to be accepted by the CPSC for third party testing.

Dated: September 7, 2016.
Todd A. Stevenson,
Secretary, Consumer Product Safety Commission.

[FR Doc. 2016-21826 Filed 9-9-16; 8:45 am]

BILLING CODE 6355-01-P